DEPARTMENT OF AGRICULTURE

Office of the Secretary

7 CFR Part 2

RIN 0503-AA81

Delegations of Authority

AGENCY: Office of the Secretary, USDA.

ACTION: Final rule.

SUMMARY: This document revises the delegations of authority from the Secretary of Agriculture and general officers of the U.S. Department of Agriculture (USDA) to reflect changes and additions to the delegations as summarized below.

DATES: Effective October 2, 2024.

FOR FURTHER INFORMATION CONTACT: Melissa McClellan, Office of the General Counsel, (202) 720-5565, melissa.mcclellan@usda.gov.

SUPPLEMENTARY INFORMATION:

Overview of Changes

This rule amends 7 CFR part 2 to reflect updates to the delegations of authority by the Secretary to the Under Secretary for Farm Production and Conservation (FPAC) and the FPAC mission area agencies, the General Counsel, and the Director of the Office of Tribal Relations (OTR) for the purposes described below. The rule also corrects an error in a delegation by the Under Secretary for Natural Resources and the Environment (NRE) to the Chief of the Forest Service.

First, this rule amends the delegation of authority by the Secretary to the Under Secretary for FPAC at § 2.16 under section 607(b)(4) of the Rural Development Act of 1972 (7 U.S.C. 2204b(b)(4)). This statute authorizes the Secretary to “enter into cooperative agreements with other Federal agencies, State and local governments, and any other organization or individual to improve the coordination and effectiveness of Federal programs, services, and actions affecting rural areas” if the objectives of the agreement “will serve the mutual interest of the parties in rural development activities.” Under the existing delegation for this cooperative agreement authority to the Under Secretary for FPAC at § 2.16(a)(1)(xxviii), further delegated to the Administrator, Farm Service Agency (FSA) at § 2.42(a)(50), the delegation covers only the following actions: (i) administration of cooperative agreements with respect to conservation programs and (ii) administration of cooperative agreements with Federal agencies, State, local, and tribal governments, nongovernmental organizations, and educational institutions related to outreach and technical assistance for programs carried out by FSA. This rule expands the delegation so that it is no longer limited to agreements related to conservation programs and the outreach and technical assistance activities of FSA. The expanded delegation permits the Under Secretary for FPAC to enter into cooperative agreements to improve the efficiency and effectiveness of Federal programs that affect rural areas under the entire FPAC Mission Area, subject to the terms of 7 U.S.C. 2204b(b)(4). See Secretary's Memorandum 1077-011 (March 13, 2024), available at https://www.usda.gov/directives/sm-1077-011. This rule implements the expanded delegation of authority by removing the existing delegation at § 2.16(a)(1)(xxviii) and adding a new delegation at § 2.16(a)(13). This change does not impact the scope of the existing delegation of authority by the Under Secretary for FPAC to the Administrator of FSA at § 2.42(a)(50) to administer cooperative agreements under 7 U.S.C. 2204b(b)(4).

Next, this rule revises the delegations to the General Counsel at § 2.31 to reflect a new delegation of the Secretary's authority to enter into cooperative agreements under 7 U.S.C. 2204b(b)(4). This delegation allows the Office of the General Counsel to enter into cooperative agreements with nongovernmental organizations and educational institutions related to public interest and agricultural law for the purpose of carrying out agricultural and public service programs, sponsorships, convenings, and trainings. See Secretary's Memorandum 1077-009 (Sept. 26, 2023), available at https://www.usda.gov/directives/sm-1077-009.

The rule also revises the delegations by the Secretary to the Director, OTR at § 2.39 to reflect a new delegation of the Secretary's authority under section 922 of the Federal Agriculture Improvement and Reform Act, as amended (7 U.S.C. 2279c), to enter into cooperative agreements with associations of institutions of higher education for the purpose of participation in internship programs for graduate and undergraduate students in support of the 1994 Tribal College Program, and to carry out the related authorities and responsibilities outlined in the statute. See Secretary's Memorandum 1077-008 (Sept. 22, 2023), available at https://www.usda.gov/directives/sm-1077-008.

In addition, this rule makes permanent the Under Secretary for FPAC's delegations within the FPAC mission area under the “Service First” initiative authority, initially delegated in an Under Secretary's Memorandum issued March 21, 2024. Through the Under Secretary for FPAC, the Secretary delegates to the Chief Operating Officer, FPAC Business Center (§ 2.41), the Administrator, FSA (§ 2.42), the Chief, Natural Resources and Conservation Service (§ 2.43), and the Administrator, Risk Management Agency (§ 2.44) the authority under 43 U.S.C. 1703 to establish programs with the U.S. Department of Interior (DOI) or with other agencies within USDA for the purpose of promoting customer service and efficiency, including delegating to employees of DOI and other USDA agencies their respective authorities to carry out projects on behalf of USDA.

Finally, this rule corrects an error in a statutory citation in the delegations by the Under Secretary for NRE to the Chief of the Forest Service at § 2.60(a)(58).

Classification

This rule relates to internal agency management. Accordingly, pursuant to 5 U.S.C. 553, notice of proposed rulemaking and opportunity for comment are not required, and this rule may be made effective less than 30 days after publication in the Federal Register. This rule also is exempt from the provisions of Executive Orders 12866 and 13771. This action is not a rule as defined by the Regulatory Flexibility Act, as amended by the Small Business Regulatory Enforcement Fairness Act of 1996, 5 U.S.C. 601 et seq., or the Congressional Review Act, 5 U.S.C. 801 et seq., and thus is exempt from the provisions of those acts. This rule contains no information collection or recordkeeping requirements under the Paperwork Reduction Act of 1995 (44 U.S.C. 3501 et seq.).

List of Subjects in 7 CFR Part 2

Authority delegations (Government agencies).

Accordingly, as discussed in the preamble, 7 CFR part 2 is amended as follows:

PART 2—DELEGATIONS OF AUTHORITY BY THE SECRETARY OF AGRICULTURE AND GENERAL OFFICERS OF THE DEPARTMENT

1. The authority citation for part 2 continues to read as follows:

Authority: 7 U.S.C. 6912(a)(1); 5 U.S.C. 301; Reorganization Plan No. 2 of 1953, 3 CFR 1949-1953 Comp., p. 1024.

Subpart C—Delegations of Authority to the Deputy Secretary, Under Secretaries, and Assistant Secretaries

2. Amend § 2.16 by removing and reserving paragraph (a)(1)(xxviii) and adding paragraph (a)(13) to read as follows:

§ 2.16 Under Secretary for Farm Production and Conservation.

(a) * * *

(13) Enter into cooperative agreements with Federal agencies, State and local governments, and any other organization or individual to improve the coordination and effectiveness of Federal programs, services, and actions affecting rural areas (7 U.S.C. 2204b(b)(4)).

* * * * *

Subpart D—Delegations of Authority to Other General Officers and Agency Heads

3. Amend § 2.31 by adding paragraph (a)(21) to read as follows:

§ 2.31 General Counsel.

(a) * * *

(21) Enter into cooperative agreements with nongovernmental organizations and educational institutions related to public interest and agricultural law for the purpose of agricultural and public service programs, sponsorships, convenings, and trainings (7 U.S.C. 2204b(b)(4)).

* * * * *

4. Amend § 2.39 by adding paragraph (a)(10) to read as follows:

§ 2.39 Director, Office of Tribal Relations.

(a) * * *

(10) Enter into cooperative agreements with associations of institutions of higher education for the purpose of participation in internship programs for graduate and undergraduate students in support of the 1994 Tribal College Program and carry out the related authorities and responsibilities outlined in 7 U.S.C. 2279c.

* * * * *

Subpart F—Delegations of Authority by the Under Secretary for Farm Production and Conservation

5. Amend § 2.41 by adding paragraph (a)(7) to read as follows:

§ 2.41 Chief Operating Officer, Farm Production and Conservation Business Center.

(a) * * *

(7) Establish programs with any bureau of the U.S. Department of the Interior (DOI), or with other agencies within USDA, in support of the Service First initiative for the purpose of promoting customer service and efficiency, including delegating to employees of DOI and other USDA agencies the authorities of the Farm Production and Conservation Business Center necessary to carry out projects on behalf of USDA (43 U.S.C. 1703).

* * * * *

6. Amend § 2.42 by adding paragraph (a)(31) to read as follows:

§ 2.42 Administrator, Farm Service Agency.

(a) * * *

(31) Establish programs with any bureau of the U.S. Department of the Interior (DOI), or with other agencies within USDA, in support of the Service First initiative for the purpose of promoting customer service and efficiency, including delegating to employees of DOI and other USDA agencies the authorities of the Farm Service Agency necessary to carry out projects on behalf of USDA (43 U.S.C. 1703).

* * * * *

7. Amend § 2.43 by adding paragraph (a)(5) to read as follows:

§ 2.43 Chief, Natural Resources and Conservation Service.

(a) * * *

(5) Establish programs with any bureau of the U.S. Department of the Interior (DOI), or with other agencies within USDA, in support of the Service First initiative for the purpose of promoting customer service and efficiency, including delegating to employees of DOI and other USDA agencies the authorities of the Natural Resources and Conservation Service necessary to carry out projects on behalf of USDA (43 U.S.C. 1703).

* * * * *

8. Amend § 2.44 by adding paragraph (a)(10) to read as follows:

§ 2.44 Administrator, Risk Management Agency and Manager, Federal Crop Insurance Corporation.

(a) * * *

(10) Establish programs with any bureau of the U.S. Department of the Interior (DOI), or with other agencies within USDA, in support of the Service First initiative for the purpose of promoting customer service and efficiency, including delegating to employees of DOI and other USDA agencies the authorities of the Risk Management Agency to carry out projects on behalf of USDA (43 U.S.C. 1703).

* * * * *

Subpart J—Delegations of Authority by the Under Secretary for Natural Resources and Environment

9. Amend § 2.60 by revising paragraph (a)(58) to read as follows:

§ 2.60 Chief, Forest Service.

(a) * * *

(58) Enter into reciprocal fire agreements or contracts with domestic entities. Administer reimbursements received for fire suppression (42 U.S.C. 1856-1856e).

* * * * *

Signing Authority

The Secretary of Agriculture, Thomas J. Vilsack, having reviewed and approved this document, is delegating the authority to electronically sign this document to Mary Beth Schultz, Principal Deputy General Counsel, for purposes of publication in the Federal Register.

Mary Beth Schultz,
Principal Deputy General Counsel.

[FR Doc. 2024-22571 Filed 10-1-24; 8:45 am]

BILLING CODE 3410-90-P